INTERNATIONAL TRADE COMMISSION

[Investigation No. 337-TA-788]

Certain Universal Serial Bus (“USB”) Portable Storage Devices, Including USB Flash Drives and Components Thereof Determination Not To Review Two Initial Determinations Terminating the Investigation as to All Remaining Respondents; Termination of the Investigation

AGENCY: U.S. International Trade Commission.

ACTION: Notice.

SUMMARY: Notice is hereby given that the U.S. International Trade Commission has determined not to review two initial determinations (“IDs”) (Order Nos. 21 and 22) of the presiding administrative law judge (“ALJ”) terminating the investigation as to all remaining respondents.

FOR FURTHER INFORMATION CONTACT: Michael Liberman, Esq., Office of the General Counsel, U.S. International Trade Commission, 500 E Street SW., Washington, DC 20436, telephone (202) 205-3106. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. § 1337, on July 19, 2011, based on a complaint filed on behalf of Trek 2000 International Ltd. of Loyang Industrial Estate, Singapore; Trek Technology (Singapore) Pte. Ltd. of Genting Centre, Singapore; and S-Corn System (S) Pte. Ltd. of Genting Centre, Singapore (collectively, “Trek”), alleging a violation of section 337 in the importation, sale for importation, and sale within the United States after importation of certain universal serial bus (“USB”) portable storage devices, including USB flash drives and components thereof that infringe certain claims of U.S. Patent Nos. 6,880,054; 7,039,759; D463,426; and 7,549,161. 76 FR 42730 (July 19, 2011). The notice of investigation named as respondents Imation Corporation of Oakdale, Minnesota; IronKey, Inc. of Sunnyvale, California; Kingston Technology Company, Inc. of Fountain Valley, California; Patriot Memory, LLC of Fremont, California (“Patriot”); RITEK Corporation of Hsinchu, Taiwan and Advanced Media, Inc./RITEK USA of Diamond Bar, California (collectively, “RITEK”); and Verbatim Corporation, Inc. of Charlotte, North Carolina and Verbatim Americas, LLC of Charlotte, North Carolina (collectively, “Verbatim”). Subsequently, respondents RITEK, Verbatim, and Patriot were terminated from the investigation.

On May 4, 2012, complainants Trek moved to terminate the investigation in part and withdraw the allegations in the complaint of infringement of the '054, the '759, and the '426 patents by accused products of respondent IronKey, namely the S200 and D200 products and Trusted Access. Respondents Imation, IronKey, and Kingston did not oppose the motion. The Commission investigative staff (“Staff”) filed a response in support of the motion. On May 8, 2012, the presiding ALJ issued an ID (Order No. 21) granting the motion.

On May 8, 2012, complainants Trek filed an uncontested motion to withdraw the complaint and terminate the investigation as to the remaining respondents Kingston and Imation. Respondents Kingston and Imation did not oppose the motion. The Staff filed a response in support of the motion. On May 10, 2012, the ALJ issued an ID (Order No. 22) granting the motion. No party petitioned for review of either Order No. 21 or Order No. 22. The Commission has determined not to review the IDs. The investigation is hereby terminated.

The authority for the Commission's determination is contained in section 337 of the Tariff Act of 1930, as amended, 19 U.S.C. § 1337, and in section 210.42(h) of the Commission's Rules of Practice and Procedure, 19 CFR 210.42(h).

By Order of the Commission.
Issued: June 8, 2012.
Lisa R. Barton,
Acting Secretary to the Commission.

[FR Doc. 2012-14529 Filed 6-13-12; 8:45 am]

BILLING CODE 7020-02-P